DEPARTMENT OF HEALTH AND HUMAN SERVICES

National Institutes of Health

Center for Scientific Review; Amended Notice of Meeting

Notice is hereby given of a change in the meeting of the Host Interactions with Bacterial Pathogens Study Section, October 18, 2013, 8:00 a.m. to October 18, 2013, 6:00 p.m., Hyatt Regency Bethesda, One Bethesda Metro Center, 7400 Wisconsin Avenue, Bethesda, MD 20814 which was published in the Federal Register on September 24, 2013, 78 FR 185 Pgs. 58547-58548.

The meeting will start on November 15, 2013 at 8:00 a.m. and will end on November 15, 2013 at 6:30 p.m. The meeting location remains the same. The meeting is closed to the public.

Dated: October 24, 2013.
Carolyn A. Baum,
Program Analyst, Office of Federal Advisory Committee Policy.

[FR Doc. 2013-25661 Filed 10-29-13; 8:45 am]

BILLING CODE 4140-01-P